DEPARTMENT OF LABOR

Employment And Training Administration

[TA-W-56,103]

Cherry Electrical Products, Waukesha, IL; Notice of Termination of Investigation

Pursuant to Section 221 of the Trade Act of 1974, as amended, an investigation was initiated on November 30, 2004 in response to a worker petition filed on behalf of workers at Cherry Electrical Products, Waukesha, Illinois.

The petitioning group of workers is covered by an active certification, (TA-W-55,937) which expires on November 23, 2006. Consequently, further investigation in this case would serve no purpose, and the investigation has been terminated.

Signed at Washington, DC this 2nd day of December, 2004.
Elliott S. Kushner
Certifying Officer, Division of Trade Adjustment Assistance.

[FR Doc. E4-3773 Filed 12-21-04; 8:45 am]

BILLING CODE 4510-30-P